POSTAL SERVICE

39 CFR Part 20

Changes in International Postal Rates

AGENCY: Postal Service.

ACTION: Final rule.

SUMMARY: The Postal Service, after considering the comments submitted in response to its request for comments on proposed changes in international postage rates published in the Federal Register on March 1, 2000 (65 FR 11023-11024), hereby gives notice that it is implementing the proposed rates for regular printed matter, small packets, and books and sheet music and delaying the implementation for the proposed publishers' periodical rates.

EFFECTIVE DATES: 12:01 a.m., May 28, 2000; 12:01 a.m., January 13, 2001.

FOR FURTHER INFORMATION CONTACT: John Alepa, (202) 268-4071; or John Reynolds, (202) 314-7334.

SUPPLEMENTARY INFORMATION: On March 1, 2000, the Postal Service published in the Federal Register a notice of proposed changes in international postage rates (65 FR 11023-11024). The Postal Service requested comments by March 31, 2000. No comments were received on the proposed rates for regular printed matter, small packets, and books and sheet music. Comments on the proposed rates for publishers' periodicals were received from seven mailers who use the publishers' periodical rates and an organization representing publishers. The comments centered on three areas of concern.

First, seven of the commenters mentioned the size of the proposed rate change, 15 percent for publishers' periodicals to countries other than Canada and Mexico and 20 percent for items to Mexico. Second, two mailers questioned the timing of the change, stating that budgets have already been set for the year, the increased expense is unanticipated, and subscription rates cannot be changed. Third, two commenters questioned the reliability of the cost data used by the Postal Service to set the new rates and requested that the Postal service re-examine the cost studies that underlie the rates.

The Postal Service believes the cost information on which it based the proposed publishers' periodicals rates is correct. This cost information comes from the same data systems used to develop domestic rates. Those systems are reviewed by the Postal Rates Commission during domestic rate proceedings and the international revenue and cost information is furnished to the Postal Rate Commission for its annual report to the Congress.

The rate changes proposed by the Postal Service are necessary to enable the rates of the affected categories of printed matter to better align with the costs involved in providing the service. However, the Postal Service believes that the commenters have raised valid concerns about the timing of the proposed rates for publishers' periodicals. By agreeing to defer the implementation date for that component of the rate change proposal, the Postal Service is seeking to provide affected mailers with additional time to incorporate postal rate adjustments into their corporate business plans.

Accordingly, the proposed surface rates for regular printed matter and small packets to Mexico and for books and sheet music to all countries except Canada will take effect at 12:01 a.m., May 28, 2000. The implementation date for the publishers' periodical rates to all countries except Canada is being deferred to 12:01 a.m., January 13, 2001.

The Postal Service hereby adopts the following postal rates and amends the International Mail Manual, which is incorporated by reference in the Code of Federal Regulations. See 39 CFR 20.1.

List of Subjects in 39 CFR Part 20

Foreign relations, International postal services.

PART 20—[AMENDED]

1. The authority citation for 39 CFR part 20 continues to read as follows:

Authority: 5 U.S.C. 552(a); 39 U.S.C. 401, 404, 407, 408.

2. The International Mail Manual is amended to incorporate the following postal rates:

I. Mexico—Regular Printed Matter and Small Packets (Surface)
Weight not over: Lb. | Weight not over: Oz. | Rate
0 | 1 | $0.72
0 | 2 | 0.96
0 | 3 | 1.27
0 | 4 | 1.50
0 | 5 | 1.80
0 | 6 | 1.80
0 | 7 | 2.22
0 | 8 | 2.22
0 | 9 | 2.63
0 | 10 | 2.63
0 | 11 | 2.96
0 | 12 | 2.96
0 | 13 | 3.37
0 | 14 | 3.37
0 | 15 | 3.77
1 | 0 | 3.77
1 | 2 | 4.12
1 | 4 | 4.46
1 | 6 | 4.81
1 | 8 | 5.16
1 | 10 | 5.50
1 | 12 | 5.84
1 | 14 | 6.19
2 | 0 | 6.54
3 | 0 | 8.84
4 | 0 | 11.15
Each additional pound or fraction of a pound |  | $2.30

(Note: Maximum weight is 4 pounds for small packets and 11 pounds for regular printed matter.)

II. Books and Sheet Music (Surface)
Weight not over (Lbs.) | Mexico | All other countries (except Canada and Mexico)
1 | $2.26 | $2.24
2 | 3.94 | 3.97
3 | 5.38 | 5.35
4 | 6.82 | 6.73
5 | 8.26 | 8.11
6 | 9.70 | 9.49
7 | 11.14 | 10.87
8 | 12.58 | 12.25
9 | 14.02 | 13.63
10 | 15.46 | 15.01
11 | 16.90 | 16.39

III. Publishers' Periodicals (Surface)
Weight not over: Lb. | Weight not over: Oz. | Mexico | All other countries (except Canada and Mexico)
0 | 1 | $0.48 | $0.44
0 | 2 | 0.60 | 0.55
0 | 3 | 0.78 | 0.71
0 | 4 | 0.90 | 0.83
0 | 5 | 1.13 | 1.05
0 | 6 | 1.13 | 1.05
0 | 7 | 1.36 | 1.27
0 | 8 | 1.36 | 1.27
0 | 9 | 1.57 | 1.50
0 | 10 | 1.57 | 1.50
0 | 11 | 1.80 | 1.71
0 | 12 | 1.80 | 1.71
0 | 13 | 2.03 | 1.93
0 | 14 | 2.03 | 1.93
0 | 15 | 2.26 | 2.15
0 | 16 | 2.26 | 2.15
0 | 18 | 2.46 | 2.36
0 | 20 | 2.68 | 2.56
0 | 22 | 2.88 | 2.77
0 | 24 | 3.10 | 2.98
0 | 26 | 3.30 | 3.19
0 | 28 | 3.52 | 3.39
0 | 30 | 3.72 | 3.60
0 | 32 | 3.94 | 3.81
3 | 0 | 5.38 | 5.13
4 | 0 | 6.82 | 6.45
5 | 0 | 8.26 | 7.77
6 | 0 | 9.70 | 9.10
7 | 0 | 11.14 | 10.42
8 | 0 | 12.58 | 11.74
9 | 0 | 14.02 | 13.06
10 | 0 | 15.46 | 14.39
11 | 0 | 16.90 | 15.71

Stanley F. Mires,
Chief Counsel, Legislative.

[FR Doc. 00-11700 Filed 5-9-00; 8:45 am]

BILLING CODE 7710-12-U